DEPARTMENT OF TRANSPORTATION

Federal Highway Administration

Environmental Impact Statement: Prince George's County, MD

AGENCY: Federal Highway Administration (FHWA), DOT.

ACTION: Notice of intent.

SUMMARY: The FHWA is issuing this notice to advise the public that an Environmental Impact Statement will be prepared for a proposed road project in Prince George's County, Maryland.

FOR FURTHER INFORMATION CONTACT: Mr. Phillip Bello, Area Engineer, Federal Highway Administration DelMar Division, City Crescent Building, 10 South Howard Street, Suite 2450, Baltimore, MD 21201. Telephone: (410) 779-7156. Or Mr. Alan Straus, Project Manager, 707 N. Calvert Street, C-301, Baltimore, MD 21202. Telephone: (410) 891-9274.

SUPPLEMENTARY INFORMATION: The FHWA, in cooperation with the Maryland State Highway Administration, U.S. Army Corps of Engineers, U.S. Environmental Protection Agency, Maryland Department of the Environment, and University of Maryland will prepare an Environmental Impact Statement (EIS) for roadway improvements, which address mobility and safety for travelers to and from the University of Maryland (UM) Campus from I-95/I-495 and points north, while providing enhanced access to the university.

The study will also address the university's growth and development goals, including plans for on and off-campus parking facilities. An improved connection between the I-95/I-495 interchange and the UM Campus is needed to address the future traffic congestion on the local roadways that serve the campus, traffic flow associated with special events at the university, safety of the surrounding transportation network, and multi-modal transportation. The safety of bicyclists and pedestrians will also be considered.

Letters describing the proposed action and soliciting comments were sent to appropriate Federal, State, and local government agencies, and to citizens and citizen groups who have previously expressed or are known to have an interest in this proposal. A Scoping Meeting was held in July of 2007. It is anticipated that an Alternate Public Workshop will be held in the Fall of 2008. Alternatives are presently being developed for the project. The length of the project would vary between the alternatives from approximately 2-4 miles.

A Draft EIS will be available for public and agency review and comment prior to the Public Hearing. Public notice will be given of the availability of the Draft EIS for review and of the time and place of the hearing.

To ensure that the full range of issues related to this proposed action are addressed and all significant issues identified, comments and suggestions are invited from all interested parties. Comments or questions concerning these proposed actions and EIS should be directed to the FHWA at the address provided above.

(Catalog of Federal Domestic Assistance Program Number 20.205, Highway Research, Planning and Construction. The regulation implementing Executive Order 12372 regarding intergovernmental consultation of Federal programs and activities apply to this program.)

Jitesh Parikh
Project Delivery Team Leader, FHWA DelMar Division, Baltimore, Maryland.

[FR Doc. E8-13044 Filed 6-10-08; 8:45 am]

BILLING CODE 4910-22-P